DEPARTMENT OF ENERGY

Federal Energy Regulatory Commission

[Project No. 349-096]

Alabama Power Company; Notice of Availability of Environmental Assessment

November 1, 2005.

In accordance with the National Environmental Policy Act of 1969 and the Federal Energy Regulatory Commission's (Commission) regulations, 18 CFR part 380 (Order

No. 486, 52 FR 47897), the Office of Energy Projects has reviewed an application for non-project use of project lands and waters at the Martin Dam Hydroelectric Project (FERC No. 349) and has prepared an Environmental Assessment (EA) for the proposed non-project use. The project is located on Lake Martin near Dadeville, Tallapoosa County, Alabama.

In the application, Alabama Power Company (licensee) requests Commission authorization to permit The Profile Group to use project lands to build a walkway along the shoreline and 19 dock structures with 128 boat slips. The EA contains Commission staff's analysis of the probable environmental impacts of the proposal and concludes that approving the licensee's application, with staff's recommended environmental measures, would not constitute a major Federal action significantly affecting the quality of the human environment.

The EA is attached to a Commission order titled “Order Approving Non-Project Use of Project Lands and Waters,” which was issued October 31, 2005, and is available for review and reproduction at the Commission's Public Reference Room, located at 888 First Street, NE., Room 2A, Washington, DC 20426. The EA may also be viewed on the Commission's Web site at http://www.ferc.gov using the “elibrary” link. Enter the project number (prefaced by P-) and excluding the last three digits, in the docket number field to access the document. For assistance, contact FERC Online Support at FERCOnlineSupport@ferc.gov or toll-free at (866) 208-3676, or for TTY, contact (202) 502-8659.

Magalie R. Salas,
Secretary.

[FR Doc. E5-6160 Filed 11-4-05; 8:45 am]

BILLING CODE 6717-01-P